DEPARTMENT OF HOMELAND SECURITY

Federal Emergency Management Agency

[Docket ID FEMA-2022-0002; Internal Agency Docket No. FEMA-B-2223]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before June 13, 2022.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2223, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Saginaw County, Michigan (All Jurisdictions)
Project: 14-05-9590S Preliminary Date: May 21, 2021
Charter Township of Bridgeport | Governmental Center, 6740 Dixie Highway, Bridgeport, MI 48722.
Charter Township of Buena Vista | Buena Vista Administration Building, 1160 South Outer Drive, Saginaw, MI 48601.
Charter Township of Saginaw | Township Hall, 4980 Shattuck Road, Saginaw, MI 48603.
City of Frankenmuth | City and Township Government Center, 240 West Genesee Street, Frankenmuth, MI 48734.
City of Saginaw | City Hall, 1315 South Washington Avenue, Second Floor, Saginaw, MI 48601.
City of Zilwaukee | City of Zilwaukee Administration Building, 319 Tittabawassee Road, Saginaw, MI 48604.
Township of Albee | Albee Township Community Center, 10645 East Road, Burt, MI 48417.
Township of Birch Run | Birch Run Township Center, 8425 Main Street, Birch Run, MI 48415.
Township of Blumfield | Blumfield Township Office, 1175 Vassar Road, Reese, MI 48757.
Township of Brant | Brant Township Hall, 11012 South Hemlock Road, Brant, MI 48655.
Township of Carrollton | Carrollton Township Office, 1645 Mapleridge Road, Saginaw, MI 48604.
Township of Chesaning | Township Hall, 1025 West Brady Street, Chesaning, MI 48616.
Township of Frankenmuth | City and Township Government Center, 240 West Genesee Street, Frankenmuth, MI 48734.
Township of Fremont | Fremont Township Hall, 5980 South Hemlock Road, Hemlock, MI 48626.
Township of James | James Township Hall, 6060 Swan Creek Road, Saginaw, MI 48609.
Township of Kochville | Kochville Township Offices, 5851 Mackinaw Road, Saginaw, MI 48604.
Township of Maple Grove | Maple Grove Township Hall, 17010 Lincoln Road, New Lothrop, MI 48460.
Township of Marion | Marion Township Hall, 10925 South Merrill Road, Brant, MI 48614.
Township of Spaulding | Spaulding Township Offices, 5025 East Road, Saginaw, MI 48601.
Township of St. Charles | St. Charles Township Office, 1003 North Saginaw Street, St. Charles, MI 48655.
Township of Swan Creek | Swan Creek Township Hall, 11415 Lakefield Road, St. Charles, MI 48655.
Township of Taymouth | Taymouth Township Offices, 4343 East Birch Run Road, Birch Run, MI 48415.
Township of Thomas | Thomas Township Municipal Office, 249 North Miller Road, Saginaw, MI 48609.
Township of Tittabawassee | Tittabawassee Township Offices, 145 South Second Street, Freeland, MI 48623.
Township of Zilwaukee | Zilwaukee Township Clerk's Office, 7600 Melbourne Road, Saginaw, MI 48604.
Village of Chesaning | Administrative Offices, 218 North Front Street, Chesaning, MI 48616.
Village of St. Charles | Village Hall, 110 West Spruce Street, St. Charles, MI 48655.
Van Buren County, Michigan (All Jurisdictions)
Project: 13-05-4211S Preliminary Date: September 13, 2019
City of South Haven | City Hall, 539 Phoenix Street, South Haven, MI 49090.
Township of Covert | Township Hall, 73943 East Lake Street, Covert, MI 49043.
Township of South Haven | South Haven Charter Township Hall, 09761 Blue Star Memorial Highway, South Haven, MI 49090.
Lucas County, Ohio and Incorporated Areas
Project: 13-05-1800S Revised Preliminary Date: December 3, 2021
City of Oregon | City Hall, 5330 Seaman Road, Oregon, OH 43616.
City of Toledo | Department of Inspection, One Government Center, Suite 1600, Toledo, OH 43604.
Unincorporated Areas of Lucas County | Lucas County Engineer's Office, 1049 South McCord Road, Holland, OH 43528.
Village of Harbor View | Village Hall, 327 Lakeview Drive, Harbor View, OH 43434.
Greenbrier County, West Virginia and Incorporated Areas
Project: 19-03-0028S Preliminary Date: September 30, 2021
City of Ronceverte | City Hall, 182 Main Street West, Ronceverte, WV 24970.
City of White Sulphur Springs | City Hall, 589 Main Street West, White Sulphur Springs, WV 24986.
Corporation of Falling Springs | Renick Town Hall, 135 Church Lane, Renick, WV 24966.
Town of Rainelle | Town Hall, 1233 Kanawha Avenue, Rainelle, WV 25962.
Town of Rupert | Town Hall, 528 Nicholas Street, Rupert, WV 25984.
Unincorporated Areas of Greenbrier County | Greenbrier County Courthouse, 912 Court Street North, Lewisburg, WV 24901.

[FR Doc. 2022-05361 Filed 3-14-22; 8:45 am]

BILLING CODE 9110-12-P